DEPARTMENT OF STATE

[Public Notice 4722]

Determination and Certification Under Section 40A of the Arms Export Control Act

Pursuant to section 40A of the Arms Export Control Act (22 U.S.C. 2781), and Executive Order 11958, as amended, I hereby determine and certify to the Congress that the following countries are not cooperating fully with United States antiterrorism efforts:

Cuba;

Iran;

North Korea;

Syria;

Libya.

I hereby notify that the decision to retain Libya on the list of countries not fully cooperating with U.S. antiterrorism efforts comes in the context of an on-going and comprehensive review of Libya's record of support for terrorism. While this process is not complete, Libya has taken significant steps to repudiate its past support for terrorism. When our review of Libya's overall record is complete, we will be pleased to consult with the Congress further.

This determination and certification shall be transmitted to the Congress and published in the Federal Register.

Dated: May 12, 2004.
Colin L. Powell,
Secretary of State, Department of State.

[FR Doc. 04-11214 Filed 5-17-04; 8:45 am]

BILLING CODE 4710-10-P